DEPARTMENT OF THE INTERIOR

Bureau of Land Management

[LLORP0000.16100000.DQ0000 LXSS053H0000 HAG10-0234]

Notice of Availability of the Proposed John Day Basin Resource Management Plan and Final Environmental Impact Statement, Oregon.

AGENCY: Bureau of Land Management, Interior.

ACTION: Notice of Availability.

SUMMARY: In accordance with the National Environmental Policy Act of 1969 and the Federal Land Policy and Management Act of 1976, the Bureau of Land Management (BLM) has prepared a Proposed Resource Management Plan (RMP)/Final Environmental Impact Statement (EIS) for the John Day Basin planning area and by this notice is announcing its availability.

DATES: The BLM planning regulations state that any person who meets the conditions as described in the regulations may protest the BLM's Proposed RMP/Final EIS. A person who meets the conditions and files a protest must file the protest within 30 days of the date that the Environmental Protection Agency publishes its notice in the Federal Register.

ADDRESSES: Copies of the John Day Basin Proposed RMP/Final EIS have been sent to affected Federal, State, and local government agencies and to other stakeholders, organizations, agencies and interested parties on the John Day Basin Resource Management Plan (RMP) mailing list. Copies of the Proposed RMP/Final EIS are available for public inspection at the Prineville Field Office during regular business hours (7:45 a.m. to 4:30 p.m., Monday through Friday, except holidays) at 3050 NE 3rd Street, Prineville, Oregon 97754. Interested persons may also review the Proposed RMP/Final EIS on the Internet at http://www.blm.gov/or/districts/prineville/plans/johndayrmp/jdbdocuments.php.

All protests must be in writing and mailed to one of the following addresses:

Regular Mail: Director (210), Attn: Brenda Hudgens-Williamsm, P.O. Box 71383, Washington, DC 20024-1383.

Overnight Mail: Director (210), Attn: Brenda Hudgens-Williams, 20 M Street SE., Room 2134LM, Washington, DC 20003.

FOR FURTHER INFORMATION CONTACT: For further information, contact Monte Kuk, John Day Basin RMP Project Leader, BLM Prineville Field Office, 3050 NE 3rd Street, Prineville, Oregon 97754; telephone (541) 416-6700; email John_Day_Basin_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area is located in parts of Sherman, Gilliam, Morrow, Umatilla, Grant, Wheeler, Jefferson, and Wasco Counties in the State of Oregon, covering 456,000 acres of BLM-managed public land. Prior to this plan, the public land in this area was managed under three RMPs, which were completed in the 1980s: John Day RMP (Record of Decision signed 1985), Two Rivers RMP (1986), and Baker RMP (1989). The John Day RMP was amended in 1995. In 2001, the John Day River Plan amended portions of all three RMPs. New information and changed circumstances are cause for the BLM to update these plans. Changed circumstances include, but are not limited to: Acquisition of 44,000 acres along North Fork John Day River, congressional designation of the Spring Basin Wilderness, heightened public interest in BLM management actions, increasing demand for recreation activities on public lands, and expanded scientific knowledge and information pertaining to the conservation of aquatic species.

In February 2006, the BLM published a Notice of Intent to prepare an EIS and initiate revision/amendment of the existing RMPs. In March 2006, the BLM hosted five public open houses across the planning area and in Portland, Oregon, to solicit public input on the issues to be addressed. The BLM published results of public input and an Analysis of the Management Situation in December 2006, followed by four public open houses across the planning area to solicit input on criteria to be used in development of alternatives. Throughout the planning process the BLM maintained updated wilderness characteristics inventories for all lands outside of areas designated as Wilderness or Wilderness Study Areas (WSA) to determine lands with wilderness characteristics (LWCs) in the planning area. After publication of the Draft RMP in October 2008, the BLM hosted a series of open houses throughout Oregon to present proposed actions in the Draft RMP and gather public comment. Public comments were accepted from October 30, 2008, to January 29, 2009. Comments were submitted via U.S. mail, direct email, email generated from the planning Web page, orally at open houses, and via telephone.

The BLM also met regularly with the John Day/Snake Resource Advisory Council and with representatives of local, State, and other Federal government agencies, as well as tribal governments. Additionally, the BLM maintained a public Web site and mailed periodic newsletters with information on the plan's status.

Comments on the Draft RMP/Draft EIS received from the public, John Day/Snake Resource Advisory Council, John Day Basin RMP Cooperating Agencies, and internal BLM review were considered and incorporated as appropriate into the proposed plan. Public comments resulted in the addition of clarifying text, but did not significantly change proposed land use plan decisions.

The Proposed RMP/Final EIS analyzes five alternatives. Alternative 1 (no action) would continue the current management goals, objectives, and direction specified in the existing RMPs. Alternative 2 (Proposed Resource Management Plan) would provide a mix of recreational opportunities, economic opportunities, and resource protection. Changes from Alternative 1 to 2 include:

(a) Development of an interim road system and a process for developing a final transportation plan;

(b) A reduction in areas “open” for motorized use off of roads;

(c) Synthesized management direction to achieve forest and upland health goals while providing for timber and forage production and wildfire prevention;

(d) Management direction for the North Fork John Day River lands that, in accordance with the land acquisition legislation, protects native fish, wildlife habitat, and public recreation;

(e) Addition of an integrated strategy to address fish, water quality, and water quantity together;

(f) Provides management protection of wilderness characteristics on 19,442 of the 35,457 acres identified as Lands with Wilderness Characteristics, and a determination that management for other resource considerations is more appropriate on the remaining 16,015 acres;

(g) Use of “appropriate response” rather than full suppression of all wildfires;

(h) A process for addressing permit/lease relinquishment for grazing allotments; and

(i) Wild and Scenic River suitability recommendation for 37 miles of the North Fork River.

Alternatives 3, 4, and 5 are similar to Alternative 2 in most instances, but provide variation in the amount of roadway open for motorized travel, the number of areas open to off-road motorized use, the amount of LWC protected, the number and classifications of river segments deemed suitable for inclusion in the National Wild and Scenic River System, and the number of acres where livestock grazing is permitted.

The BLM Proposed RMP (Alternative 2) and Alternatives 3, 4, and 5 (the Action Alternatives) propose immediate designation of five new Areas of Critical Environmental Concern (ACEC), totaling 62,407 acres. This total includes the 1,153-acre expansion of the existing Horn Butte ACEC.

The largest of the new proposed ACECs is the 38,168-acre John Day Paleontological ACEC that would complement the adjacent John Day Fossil Beds National Monument and partially overlap the existing Sutton Mountain WSA. Resource use limitations associated with designation of this ACEC where it overlaps the WSA would include closure to salable, locatable and leasable minerals, a No Surface Occupancy (NSO) stipulation for energy and communication site development, exclusion from rights-of-way, management to Visual Resource Management Class II (VRM II) standards, and limiting vehicle use to designated roads and trails. Use limitations associated with this ACEC where it does not overlap with the Sutton Mountain WSA would be similar except for an NSO stipulation for mineral leasing, and other special stipulations for developments for energy, communication sites, and rights-of-way. Other proposed ACECs include the 6,639-acre Black Canyon RNA/ACEC, which would protect several sensitive plants and unique plant communities. Use limitations for this proposed ACEC include exclusion of livestock grazing, closure to off-highway motorized vehicles, an NSO stipulation for mineral leasing, closure to salable mineral, energy and communication site development, and exclusion of rights-of-way. The proposed plan would also add 1,153 acres to the existing 5,999-acre Horn Butte ACEC to protect Washington ground squirrel habitat. Use limitations for the expanded Horn Butte ACEC include management to VRM II standards, prohibition of mechanical noxious weed control in Fourmile Canyon, an NSO stipulation for mineral leasing, closure to salable minerals and energy and communication site development, and exclusion of rights-of-way. Also proposed is the addition of the North Fork John Day River (16,837 acres), Armstrong Canyon (3,885 acres) and Ferry Canyon (2,364 acres) ACECs to protect visual resource values. Use limitations include management to VRM II standards, NSO stipulation for mineral leasing, closure to communication site development, and exclusion of rights-of-way. The proposed plan also eliminates the existing Spanish Gulch ACEC (333 acres). In the event that Congress releases any of the three WSAs along the lower John Day River (Lower John Day, North Pole Ridge, and Thirtymile) from WSA status, the released lands would be designated as ACECs to preserve scenic and other values. Use limitations would include management to VRM II standards, NSO stipulation for mineral leasing and closure to salable minerals, closure to energy and communication site development, and exclusion of rights-of-way (except for the existing PGE pipeline right-of-way). For more detailed information on each ACEC proposal, see the Special Designations section in the Proposed RMP/Final EIS.

Instructions for filing a protest with the Director of the BLM regarding the Proposed RMP/Final EIS may be found in the “Dear Reader” letter of the John Day Basin Proposed RMP/Final EIS and at 43 CFR 1610.5-2. Emailed and faxed protests will not be accepted as valid protests unless the protesting party also provides the original letter by either regular or overnight mail postmarked by the close of the protest period. Under these conditions, the BLM will consider the emailed or faxed protest as an advanced copy and it will receive full consideration. If you wish to provide the BLM with such advance notification, please direct faxed protests to the attention of the BLM protest coordinator at 202-912-7212, and emails to Brenda_Hudgens_Williams@blm.gov. All protests, including the follow-up letter to emails or faxes, must be in writing and mailed to the appropriate address as set forth in the ADDRESSES section above.

Before including your address, phone number, email address, or other personal identifying information in your protest, you should be aware that your entire protest—including your personal identifying information—may be made publicly available at any time. While you can ask us in your letter to withhold your personal identifying information from public review, we cannot guarantee that we will be able to do so.

Authority: 40 CFR 1506.6 and 1506.10 43 CFR 1610.2 and 1610.5.

Edward W. Shepard,
State Director, Oregon/Washington.

[FR Doc. 2012-9502 Filed 4-19-12; 8:45 am]

BILLING CODE 4310-33-P